FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the information collection system entitled “Account Based Disclosures in Connection with Federal Reserve Regulations E, CC and DD.”

DATES: Comments must be submitted on or before August 4, 2005.

ADDRESSES: Interested parties are invited to submit written comments. All comments should refer to “Account Based Disclosures in Connection with Federal Reserve Regulations E, CC and DD, 3064-0084.” Comments may be submitted by any of the following methods:

• http://www.FDIC.gov/regulations/laws/federal/propose.html.

• E-mail: comments @FDIC.gov. Include “Deposit Broker Processing, 3064-0143” in the subject line of the message.

• Mail: Leneta G. Gregorie (202) 898-3719, Counsel, Room MB-3082, Federal Deposit Insurance Corporation, 550 17th Street, NW., Washington, DC 20429.

• Hand Delivery: Comments may be hand-delivered to the guard station at the rear of the 17th Street Building (located on F Street), on business days between 7 a.m. and 5 p.m.

A copy of the comments should also be submitted to the OMB desk officer for the FDIC: Mark Menchik, Office of Information and Regulatory Affairs, Office of Management and Budget, New Executive Office Building, Room 3208, Washington, DC 20503, or by electronic mail to mmenchik@omb.eop.gov.

FOR FURTHER INFORMATION CONTACT: Leneta Gregorie, (202) 898-3719, or at the address above.

SUPPLEMENTARY INFORMATION:

Proposal To Revise the Following Currently Approved Collection of Information

Title: Account Based Disclosures in Connection with Federal Reserve Regulations E, CC, and DD.

OMB Number: 3064-0084.

Affected Public: State chartered banks that are not members of the Federal Reserve System.

Information About the Collection and Proposed Changes to it: This FDIC information collection provides for the application of Regulations E (Electronic Fund Transfers), CC (Availability of Funds), and DD (Truth in Savings) to State nonmember banks.

Regulations E, CC, and DD are issued by the Federal Reserve Board of Governors (FRB) to ensure, among other things, that consumers are provided adequate disclosures regarding accounts, including electronic fund transfer services, availability of funds, and fees and annual percentage yield for deposit accounts. The FDIC is providing this notice in order to keep its Office of Management and Budget (OMB) approved information collection consistent with changes the FRB proposed to Regulation E, 12 CFR part 205, (69 FR 55996, Sept. 17, 2004). Currently, Regulation E requires respondents to provide disclosures of basic terms, costs, and rights relating to electronic fund transfer services.

If the proposed changes to Regulation E are made final, State nonmember banks will need to modify their Regulation E disclosures to provide initial disclosures that electronic check conversion transactions are a new type of transfer that can be made from a consumer's account. The FDIC estimates that it will require institutions, on average, one business day to reprogram and update systems to include the new notice concerning electronic check conversion disclosure to their ongoing Regulation E disclosure requirements. The one-time burden would be 42,400 hours (8 hours × 5,300 respondents).

If the proposed changes to Regulation E are made final, institutions involved in offering payroll card accounts will be required to ensure compliance with Regulation E and provide disclosure of basic terms, costs, and rights relating to electronic fund transfer services in connection with the payroll card account. Certain information must be disclosed to consumers, including: Initial and updated electronic fund transfer terms, transaction information, periodic statements of activity, the consumer's potential liability for unauthorized transfers, and error resolution rights and procedures. The disclosures are standardized and machine-generated and do not substantively change from one individual account to another; thus, the average time for providing the disclosure to all consumers should be minimal.

The FDIC estimates that five State nonmember banks participate in payroll card account programs and that each institution will make approximately 5,000 disclosures which will require an average of 1.5 minutes per disclosure to prepare and distribute, resulting in 625 hours of annual burden. The FDIC estimates that the five institutions will take, on average, 7 hours to prepare and distribute 12 periodic statements for an annual burden of 420 hours. The FDIC estimates that the five respondents will take, on average, 30 minutes for eight error resolution procedures for a total of 20 hours. The payroll card account disclosures would add 1,065 hours of ongoing burden to the current annual Regulation E burden of 28,930 hours.

At this time, the FDIC does not believe that any State nonmember banks are engaged in electronic check conversion transactions as a merchant or payee. The FDIC is not proposing to make any changes to the Regulation CC or DD parts of the OMB approved information collection. The FDIC's burden estimate is based on the FRB's proposed rule; we will adjust it as necessary to make it consistent with the FRB's final rule.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Dated in Washington, DC, this 28th day of June, 2005.
Federal Deposit Insurance Corporation.
Valerie J. Best,
Assistant Executive Secretary.

[FR Doc. 05-13115 Filed 7-1-05; 8:45 am]

BILLING CODE 6714-01-P